DEPARTMENT OF DEFENSE

Department of the Air Force

Performance Review Board Membership

AGENCY: Department of the Air Force, Department of Defense (DoD).

ACTION: Notice.

SUMMARY: Notice is given of the names of members of a Performance Review Board for the Department of the Air Force.

DATES: Effective November 18, 2005.

FOR FURTHER INFORMATION CONTACT: Greg Price, Air Force Senior Leader Management Office, 2221 South Clark Street, CP6, Suite 500, Arlington VA 22202.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives. The members of the Performance Review Board for the U.S. Air Force are:

1. Lt Gen Duncan J. McNabb, Commander, Air Mobility Command.

2. Lt Gen Stephen G. Wood, Deputy Chief of Staff, Plans and Programs, Headquarters, U.S. Air Force.

3. Lt Gen Terry L. Gabreski, Vice Commander, Air Force Materiel Command.

4. Mr. Michael A. Aimone, Assistant Deputy Chief of Staff, Installations and Logistics, Headquarters, U.S. Air Force.

5. Mr. Howard G. Becker, Deputy Director, Administration and Management, Office of the Secretary of Defense and Director, Washington Headquarters Services.

6. Mr. Roger M. Blanchard, Assistant Deputy Chief of Staff, Personnel, Headquarters, U.S. Air Force.

7. Mr. Lawrence B. Henry, Jr., Director, Financial Management and Resource Oversight, National Reconnaissance Office.

8. Ms. Letitia A. Long, Deputy Under Secretary of Defense for Policy, Requirements, and Resources, Office Of The Under Secretary Of Defense (Intelligence).

9. Mr. Michael L. Rhodes, Assistant Deputy Commandant for Manpower and Reserve Affairs, U.S. Marine Corps.

10. Ms. Cheryl J. Roby, Deputy Assistant Secretary of Defense (Programs and Evaluation), Office of the Assistant Secretary of Defense (Command, Control, Communications and Intelligence).

11. Mr. James E. Short, Deputy Assistant Secretary for Financial Operations, Office of the Assistant Secretary for Financial Management and Comptroller, Headquarters, U.S. Air Force.

12. Ms. Barbara A. Westgate, Executive Director, Air Force Materiel Command.

Bruno Leuyer,
DAF, Air Force Federal Register Liaison Officer.

[FR Doc. 05-21258 Filed 10-24-05; 8:45 am]

BILLING CODE 5001-05-P